DEPARTMENT OF TRANSPORTATION

Coast Guard

33 CFR Part 165

[CGD13-01-015]

RIN 2115-AA97

Security Zones; Naval Submarine Base Bangor and Naval Submarines, Puget Sound and Strait of Juan De Fuca, WA

AGENCY: Coast Guard, DOT.

ACTION: Interim final rule; request for comments.

SUMMARY: The Coast Guard is establishing a fixed security zone around Naval Submarine Base Bangor, and moving security zones around Naval submarines while underway on Puget Sound, and the Strait of Juan De Fuca, Washington, and adjoining waters. These zones would safeguard U.S. Naval Submarine Base Bangor, and U.S. Naval submarines from sabotage, other subversive acts, or accidents, and otherwise protect Naval assets vital to national security.

DATES: This rule becomes effective at 6 p.m. PDT, June 20, 2001. Comments and related material must reach the Coast Guard on or before September 7, 2001.

ADDRESSES: Coast Guard Marine Safety Office Puget Sound maintains the public docket for this rulemaking. You may mail comments and related material to the address below. Comments and material received from the public, as well as documents indicated in this preamble as being available in the docket, will become part of this docket and will be available for inspection or copying at U.S. Coast Guard Marine Safety Office Puget Sound, 1519 Alaskan Way South, Building 1, Seattle, Washington 98134. Normal office hours are between 8 a.m. and 4 p.m., Monday through Friday, except Federal holidays.

FOR FURTHER INFORMATION CONTACT: LT P. M. Stocklin, Jr., c/o Captain of the Port Puget Sound, 1519 Alaskan Way South, Seattle, WA 98134, (206) 217-6232.

SUPPLEMENTARY INFORMATION:

Regulatory Information

We did not publish a notice of proposed rulemaking (NPRM) for this regulation. Under 5 U.S.C. 553(b)(B) and 5 U.S.C. 553(d)(3), the Coast Guard finds that good cause exists for not publishing an NPRM and for making this rule effective less than 30 days after publication in the Federal Register. Publishing a NPRM would be contrary to public interest since immediate action is necessary to safeguard U.S. Naval bases and submarines from sabotage, other subversive acts, or accidents, and otherwise protect Naval assets vital to national security. The attack on USS COLE precipitated U.S. Navy security reviews, which have determined that immediate threats exist to Naval bases and submarines in Puget Sound. If normal notice and comment procedures were followed, this rule would not become effective soon enough to provide immediate protection to Naval assets from the threats posed by hostile entities. The security zones in this regulation have been carefully designed to minimally impact the public while providing a reasonable level of protection for Naval assets. For these reasons, following normal rulemaking procedures in this case would be impracticable, unnecessary, and contrary to the public interest.

Request for Comments

We encourage you to participate in this rulemaking by submitting comments and related material. If you do so, please include your name and address, identify the docket number for this rulemaking (CGD 13-01-015), indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this interim final rule in view of them.

Public Meeting

We do not plan to hold a public meeting. However, you may submit a request for a meeting by writing to the person identified in the FOR FURTHER INFORMATION CONTACT section, or to the address under ADDRESSES explaining why a public meeting would be beneficial. If we determine that one would aid this rulemaking, we will hold one at a time and place announced by a later notice in the Federal Register.

Background and Purpose

The Coast Guard is establishing a fixed security zone around Naval Submarine Base Bangor, and moving security zones around Naval submarines while underway on Puget Sound, and the Strait of Juan De Fuca, WA, and adjoining waters. The Coast Guard has determined it is necessary to prevent access in order to safeguard this U.S. Naval base and submarines from sabotage, other subversive acts, or accidents, and otherwise protect Naval assets vital to national security. Recent events such as the bombing of the USS COLE highlight the fact that there are hostile entities operating with the intent to harm U.S. National Security by attacking or sabotaging Naval assets including those in Puget Sound. It would be contrary to the public interest to disclose the exact nature of the current threats to U.S. Naval assets, as this information is highly classified, and if divulged would greatly damage U.S. intelligence sources and security postures. However, the threat to the security of U.S. Naval assets is real, credible, and immediate. The Coast Guard, through this action, intends to assist the U.S. Navy in protecting vital national security assets by establishing security zones to exclude persons and vessels from the immediate vicinity of U.S. Naval bases and submarines. Entry into these zones will be prohibited unless authorized by the Captain of the Port or his designee. These security zones will be patrolled and enforced by Coast Guard and Navy personnel. The Captain of the Port may be assisted by other federal, state, or local agencies.

Regulatory Evaluation

This interim final rule is not a significant regulatory action under section 3(f) of Executive Order 12866 and does not require an assessment of potential costs and benefits under section 6(a)(3) of that Order. The Office of Management and Budget has not reviewed it under that Order. It is not significant under the regulatory policies and procedures of the Department of Transportation (DOT)(44 FR 11040, February 26, 1979). We expect the economic impact of this interim final rule to be so minimal that a full Regulatory Evaluation under paragraph 10(e) of the regulatory policies and procedures of DOT is unnecessary. This expectation is based on the fact that the regulated areas established by this rule would encompass limited areas around a Naval base and submarines in the Puget Sound area. The fixed zone around the base have been carefully crafted to have either minimal or no impact on commercial users. Recreational users may have to modify their travel to stay further away from Naval Submarine Base Bangor than they presently do, but in most cases this will be only a few hundred yards. The moving security zones around Naval submarines underway will often impinge on commercial traffic lanes, but will be of a short duration and small area. The Coast Guard will mitigate this impact on commercial traffic using Coast Guard Vessel Traffic Service traffic management procedures, and the Naval submarines themselves will use reasonable measures to decrease the inconvenience of commercial users. Recreational vessels may find themselves unable to maneuver as close to Naval submarines as they would desire, however the distances established by these zones will still permit adequate freedom of movement on the waterways. Those few vessels or persons who may be impacted by this rule may request permission to enter the zones. The Captain of the Port, in conjunction with the cognizant Naval Commander, may consider these requests on a case-by-case basis. For the above reasons, the Coast Guard does not anticipate any significant economic impact.

Small Entities

Under the Regulatory Flexibility Act (5 U.S.C. 601 et seq.), we considered whether this interim final rule would have a significant economic impact on a substantial number of small entities. “Small entities” include small businesses, not-for-profit organizations that are independently owned and operated and are not dominant in their fields, and governmental jurisdictions with populations of less than 50,000. This interim final rule will affect the following entities, some of which may be small entities: The owners or operators of vessels intending to transit in or near the security zones promulgated in this rulemaking. These zones will not have a significant economic impact due to their small size, location away from heavily traveled commercial routes, and in the case of moving zones, their short duration and small area. Because the impacts of this interim final rule are expected to be minimal, the Coast Guard certifies under 605(b) of the Regulatory Flexibility Act (5 U.S.C. 601 et seq.) that this interim rule will not have a significant economic impact on a substantial number of small entities.

If you believe that your business, organization, or governmental jurisdiction qualifies as a small entity and that this interim final rule would have a significant economic impact on it, please submit a comment (see ADDRESSES) explaining why you believe it qualifies and how and to what degree this interim final rule would economically affect it.

Assistance for Small Entities

Under section 213(a) of the Small Business Regulatory Enforcement Fairness Act of 1996 (Public Law 104-121), we want to assist small entities in understanding this rule so that they can better evaluate its effects on them and participate in the rulemaking. If this interim final rule will affect your small business, organization, or governmental jurisdiction and you have questions concerning its provisions or options for compliance, please contact the person listed in the FOR FURTHER INFORMATION CONTACT section.

Collection of Information

This rule would call for no new collection of information under the Paperwork Reduction Act of 1995 (44 U.S.C. 3501-3520).

Federalism

We have analyzed this interim final rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This interim final rule would not impose an unfunded mandate.

Taking of Private Property

This interim final rule would not effect a taking of private property or otherwise have taking implications under Executive Order 12630, Governmental Actions and Interference with Constitutionally Protected Property Rights.

Civil Justice Reform

This interim final rule meets applicable standards in sections 3(a) and 3(b)(2) of Executive Order 12988, Civil Justice Reform, to minimize litigation, eliminate ambiguity, and reduce burden.

Protection of Children

We have analyzed this interim final rule under Executive Order 13045, Protection of Children from Environmental Health Risks and Safety Risks. This interim final rule is not an economically significant rule and does not concern an environmental risk to health or risk to safety that may disproportionately affect children.

Indian Tribal Governments

This interim final rule does not have tribal implications under Executive Order 13175, Consultation and Coordination with Indian tribal governments, because it does not have a substantial direct effect on one or more Indian tribes, on the relationship between the federal government and Indian tribes, or on the distribution of power and responsibilities between the federal government and Indian tribes.

Environment

We considered the environmental impact of this interim finalrule and concluded that, under figure 2-1, paragraph(34)(g) of Commandant Instruction M16475.1C, this interim final rule is categorically excluded from further environmental documentation. A Categorical Exclusion is provided for security zones. A Categorical Exclusion Determination and an Environmental Analysis Checklist are available in the docket at the location specified under the ADDRESSES portion of this rulemaking.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

List of Subjects in 33 CFR Part 165

Harbors, Marine safety, Navigation (water), Reporting and record keeping requirements, Security measures, Waterways.

Interim Final Rule

For the reasons set out in the preamble, the Coast Guard amends part 165 of Title 33, Code of Federal Regulations, as follows:

PART 165—[AMENDED]

1. The authority citation for part 165 continues to read as follows:

Authority: 33 U.S.C. 1231; 50 U.S.C. 191, 33 CFR 1.05-1(g), 6.04-1, 6.04-6, 160.5; 49 CFR 1.46.

2. Add § 165.1311 to read as follows:

§ 165.1311 Security Zones; Naval Submarine Base Bangor and Naval submarines, Puget Sound and Strait of Juan de Fuca, Washington.

(a) Naval Submarine Base, Bangor, WA. The following area is a security zone: All waters of Puget Sound, Washington State, enclosed by the following: A line beginning at 47° 46′ 18″ N, 122° 42′ 18″ W; thence to 47° 46′ 32″ N, 122° 42′ 20″ W; thence to 47° 46′ 38″ N, 122° 42′ 52″ W; thence to 47° 44′ 15″ N, 122° 44′ 50″ W; thence to 47° 43′ 53″ N, 122° 44′ 58″ W; thence to 47° 43′ 17″ N, 122° 44′ 49″ W, and thence along the shoreline to the point of origin. [Datum: NAD 1983]

(b) Location of Moving Security Zones. The following are moving security zones: All United States navigable waters in Puget Sound and the Straits of Juan De Fuca, extending East from Traffic Lane Separation Lighted buoy J (LLNR 16135-755) to the point of moorage, and surrounding all United States Naval Submarines to a radius of 300 yards while in transit on the surface.

(c) Exemptions. Vessels that desire access to these zones and are not otherwise exempted as listed in paragraphs (c)(1) through (c)(3) of this section, shall secure permission from Captain of the Port on-scene designated representative(s). Section 165.33 paragraphs, (a), (e), and (f) do not apply to the following vessels or individuals on board those vessels:

(1) Public vessels of the United States, other than United States Naval vessels.

(2) Vessels that are performing work pursuant to a contract with the United States Navy that requires their presence in the security zone(s).

(3) Any other vessels or class of vessels mutually agreed upon in advance by the Captain of the Port and the cognizant Naval Commander. Vessels operating in the security zone(s) under this exemption must have previously obtained a copy of a certificate of exemption permitting their operation in the security zone from the Security Offices established by the respective Naval Base Commander. This written exemption shall state the date(s) on which it is effective and may contain further restrictions on vessel operations within the security zone as have been previously agreed upon by the Captain of the Port and the cognizant Naval Commander. The certificate of exemption shall be maintained on board the exempted vessel so long as such vessel is operating in the security zone.

(d) Regulations. In accordance with the general regulations in §§ 165.30 and 165.33 of this part, no person or vessel may enter the above security zones unless authorized by the Captain of the Port or his designated representatives. Vessels and persons granted authorization to enter the security zones shall obey all lawful orders or directions of the Captain of the Port or his designated representatives. The U.S. Navy and other federal, state, or local agencies may assist the Captain of the Port in the patrol and enforcement of these zones.

Dated: June 20, 2001.
M. R. Moore,
Captain, U.S. Coast Guard, Captain of the Port, Puget Sound.

[FR Doc. 01-16996 Filed 7-6-01; 8:45 am]

BILLING CODE 4910-15-P